DEPARTMENT OF COMMERCE

International Trade Administration

[A-475-828]

Stainless Steel Butt-Weld Pipe Fittings From Italy: Rescission of Antidumping Duty Administrative Review; 2015-2016

AGENCY: Enforcement and Compliance, International Trade Administration, Department of Commerce.

SUMMARY: The Department of Commerce (the Department) is rescinding the administrative review of the antidumping duty order on stainless steel butt-weld pipe fittings from Italy for the period February 1, 2015, through January 31, 2016.

DATES: Effective October 12, 2016.

FOR FURTHER INFORMATION CONTACT: Edythe Artman or Brian Davis, Enforcement and Compliance, International Trade Administration, U.S. Department of Commerce, 14th Street and Constitution Avenue NW., Washington, DC 20230; telephone: (202) 482-3931 or (202) 482-7924, respectively.

SUPPLEMENTARY INFORMATION:

Background

On February 3, 2016, the Department published a notice of “Opportunity to Request Administrative Review” of the antidumping duty order on stainless steel butt-weld pipe fittings from Italy in the Federal Register.¹ The period of review covers February 1, 2015, through January 31, 2016.

¹ See Antidumping or Countervailing Duty Order, Finding, or Suspended Investigation; Opportunity to Request Administrative Review, 81 FR 5712 (February 3, 2016).

On February 29, 2016, in accordance with section 751(a) of the Tariff Act of 1930, as amended (the Act), and 19 CFR 351.213(b), the Department received a timely request for an administrative review of its sales from Filmag Italia S.p.A., (Filmag), a foreign producer of subject merchandise in this proceeding.² Filmag was the only party to request an administrative review. On April 7, 2016, the Department published a notice of initiation of the review in the Federal Register.³

² See Letter from Filmag to the Department, dated February 29, 2016.

³ See Initiation of Antidumping and Countervailing Duty Administrative Reviews, 81 FR 20324 (April 7, 2016).

Rescission of Review

Pursuant to 19 CFR 351.213(d)(1), the Department will rescind an administrative review, in whole or in part, if a party that requested a review withdraws the request within 90 days of the date of publication of the notice of initiation of the requested review. Filmag, the sole requesting party in this review, timely withdrew its review request on June 30, 2016.⁴ Therefore, in response to the timely withdrawal of the review request, the Department is rescinding the administrative review of the antidumping duty order on stainless steel butt-weld pipe fittings from Italy for the period February 1, 2015, through January 31, 2016, in its entirety.

⁴ See Letter from Filmag to the Department, dated June 30, 2016.

Assessment

The Department will instruct U.S. Customs and Border Protection (CBP) to assess antidumping duties on all appropriate entries of stainless steel butt-weld pipe fittings from Italy. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of the return or destruction of APO materials, or conversion to judicial protective order is hereby requested. Failure to comply with the regulations and the terms of an APO is a sanctionable violation.

This notice is published in accordance with section 751 of the Act and 19 CFR 351.213(d)(4).

Dated: October 5, 2016.
Christian Marsh,
Deputy Assistant Secretary for Antidumping and Countervailing Duty Operations.

[FR Doc. 2016-24646 Filed 10-11-16; 8:45 am]

BILLING CODE 3510-DS-P